DEPARTMENT OF JUSTICE

[OMB Number 1121-0340]

Agency Information Collection Activities; Proposed eCollection eComments Requested; Equal Employment Opportunity Plan Certification and Utilization Report (Formerly Short Form)

AGENCY: Office for Civil Rights, Office of Justice Programs.

ACTION: 60-day notice.

SUMMARY: The U.S. Department of Justice, Office of Justice Programs, Office for Civil Rights will be submitting the following information collection request to the Office of Management and Budget (OMB) for review and approval in accordance with the Paperwork Reduction Act of 1995. The proposed information collection is published to obtain comments from the public and affected agencies.

DATES: Comments are encouraged and will be accepted for 60 days until June 2, 2014.

FOR FURTHER INFORMATION CONTACT: If you have comments especially on the estimated public burden or associated response time, suggestions, or need a copy of the proposed information collection instrument with instructions or additional information, please contact George Mazza, (202) 305-3146, Office for Civil Rights, Office of Justice Programs, U.S. Department of Justice, 810 Seventh Street NW., Washington, DC 20531.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology; e.g., permitting electronic submission of responses.

Overview of this information:

(1) Type of Information Collection: Revision of a currently approved collection.

(2) Title of the Form/Collection: Equal Employment Opportunity Plan Certification and Utilization Report.

(3) Agency form number, if any, and the applicable component of the U.S. Department of Justice sponsoring the collection: Office for Civil Rights, Office of Justice Programs, United States Department of Justice.

(4) Affected public who will be asked or required to respond, as well as a brief abstract: Primary: State, and local, government instrumentalities. Other: For-profit Institutions. 28 C.F.R.§ 42.301 et seq. authorizes the Department of Justice to collect information regarding employment practices from State or Local units of government, agencies of State and Local governments, and Private entities, institutions or organizations to which OJP, COPS or OVW extend Federal financial assistance. OJP components include the Bureau of Justice Assistance (BJA), Office for Victims of Crime (OVC), Office of Juvenile Justice and Delinquency Prevention (OJJDP), Bureau of Justice Statistics (BJS), National Institute of Justice (NIJ), and the Office of Sexual Offender Sentencing, Monitoring, Apprehending, Registering, and Tracking (SMART Office).

(5) An estimate of the total number of respondents and the amount of time estimated for an average respondent to respond/reply: There are 6371 respondents. It is estimated that it will take 1,290 respondents, receiving a grant of $500,000 or more, one and a half hours to complete an Equal Employment Opportunity Plan Utilization Report and submit it to the Office of Justice Programs. In addition, an estimated 5,081 of respondents seeking grants ranging from $25,000 up to $500, 000 will be required to complete Certification stating that they are maintaining a current Equal Employment Opportunity Plan on file and submit the certification to OJP. Completion and submission of the Certification will take ¼ hour. Submissions are required once every two years.

(6) An estimate of the total public burden (in hours) associated with the collection: For the 6371 respondents, there are an estimated 2237 total annual burden hours associated with this collection to complete the EEOP Utilization Report or Certification.

If additional information is required, contact Jerri Murray, Department Clearance Officer, United States Department of Justice, Justice Management Division, Policy and Planning Staff, Two Constitution Square, 145 N Street NE., Room 3W-1407B, Washington, DC 20530.

Dated: March 27, 2014.
Jerri Murray,
Department Clearance Officer for PRA, United States Department of Justice.

[FR Doc. 2014-07203 Filed 3-31-14; 8:45 am]

BILLING CODE 4410-18-P